DEPARTMENT OF HEALTH AND HUMAN SERVICES

National Institutes of Health

National Cancer Institute; Amended Notice of Meeting

Notice is hereby given of a change in the meting of the National Cancer Institute Special Emphasis Panel, September 11, 2006, 5 p.m. to September 13, 2006, 5 p.m. Doubletree Hotel Bethesda, 8120 Wisconsin Ave., Bethesda, MD, 20814 which was published in the Federal Register on July 25, 2006, 71 FR 42099.

The meeting notice is amended to reflect the change in hotel from the Doubletree Hotel, 8120 Wisconsin Ave., Bethesda, MD 20814 to the Clarion Hotel, 8400 Wisconsin Ave., Bethesda, MD 20814. The meeting is closed to the public.

Dated: August 22, 2006.
Anna Snouffer,
Acting Director, Office of Federal Advisory Committee Policy.

[FR Doc. 06-7228 Filed 8-29-06; 8:45 am]

BILLING CODE 4140-01-M